ENVIRONMENTAL PROTECTION AGENCY

40 CFR Part 300

[EPA-HQ-SFUND-2005-0002; FRL-9927-05-Region 2]

National Oil and Hazardous Substance Pollution Contingency Plan National Priorities List: Deletion of the Crown Vantage Landfill Superfund Site

AGENCY: Environmental Protection Agency.

ACTION: Proposed rule; notice of intent.

SUMMARY: The Environmental Protection Agency (EPA) Region 2 is issuing a Notice of Intent to Delete the Crown Vantage Landfill Superfund Site (Site), located in Alexandria Township, Hunterdon County, New Jersey, from the National Priorities List (NPL) and requests public comments on this proposed action. The NPL, promulgated pursuant to section 105 of the Comprehensive Environmental Response, Compensation, and Liability Act (CERCLA) of 1980, as amended, is an appendix of the National Oil and Hazardous Substances Pollution Contingency Plan (NCP). EPA and the State of New Jersey, through the New Jersey Department of Environmental Protection, have determined that all appropriate response actions under CERCLA, other than long-term maintenance and five-year reviews, have been completed. However, this deletion does not preclude future actions under Superfund.

DATES: Comments must be received by May 29, 2015.

ADDRESSES: Submit your comments, identified by Docket ID no. EPA-HQ-SFUND-2005-0002, by one of the following methods:

• Web site: http://www.regulations.gov. Follow the online instructions for submitting comments.

• Email: hess.alison@epa.gov:

• Mail: To the attention of Alison Hess, Remedial Project Manager, U.S. Environmental Protection Agency, Region 2, Emergency & Remedial Response Division, 290 Broadway, 19th Floor, New York, NY 10007-1866.

• Hand Delivery: Superfund Records Center, 290 Broadway, 18th floor, New York, NY 10007-1866 (telephone: 212-637-4308). Such deliveries are only accepted during the Record Center's normal hours of operation (Monday to Friday from 9:00 a.m. to 5:00 p.m.). Special arrangements should be made for deliveries of boxed information.

Instructions: Direct your comments to Docket ID no. EPA-HQ-SFUND-2005-0002. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comments and with any disk or CD-ROM that you submit. If EPA cannot read your comment due to technical difficulties and cannot contact you for clarification, EPA may not be able to consider your comments. Electronic files should avoid the use of special characters and any form of encryption and should be free of any defects or viruses.

Docket: All documents in the docket are listed in the http://www.regulations.gov index. Although listed in the index, some information is not publicly available, e.g., CBI or other information whose disclosure is restricted by statute. Certain other material, such as copyrighted material, will be publicly available only in the hard copy. Publicly available docket materials are available either electronically in http://www.regulations.gov or in hard copy at:

U.S. Environmental Protection Agency, Region 2, Superfund Records Center, 290 Broadway, Room 1828, New York, NY 10007-1866, Telephone: 212-637-4308, Hours: Monday through Friday from 9:00 a.m. to 5:00 p.m. and

Milford Public Library, Crown Vantage Landfill Site Repository File, 40 Frenchtown Road, Milford, NJ 08848, Telephone: 908 995-4072, Hours: Monday 12:00 p.m. to 7:00 p.m., Tuesday 11 a.m. to 5:00 p.m., Wednesday 12 p.m. to 8:00 p.m., Thursday 11 a.m. to 8:00 p.m., Friday 10:00 a.m. to 1:00 p.m. and 5:00 p.m. to 8:00 p.m., and Saturday 10:00 a.m. to 1:00 p.m.

FOR FURTHER INFORMATION CONTACT: Alison Hess, Remedial Project Manager, U.S. Environmental Protection Agency, Region 2, 290 Broadway, 19th Floor, New York, NY 10007-1866; Telephone 212-637-3959; or Email hess.alison@epa.gov.

SUPPLEMENTARY INFORMATION:

Table of Contents

I. Introduction

II. NPL Deletion Criteria

III. Deletion Procedures

IV. Basis for Intended Site Deletion

I. Introduction

EPA Region 2 is announcing its intent to delete the Crown Vantage Landfill Superfund Site from the NPL and requests public comment on this proposed action. The NPL constitutes Appendix B of 40 CFR part 300 which is the NCP, which EPA promulgated pursuant to section 105 of the CERCLA of 1980, as amended. EPA maintains the NPL as the list of sites that appear to present a significant risk to public health, welfare, or the environment. Sites on the NPL may be the subject of remedial actions financed by the Hazardous Substance Superfund (Fund). As described in 40 CFR 300.425(e)(3) of the NCP, sites deleted from the NPL remain eligible for Fund-financed remedial actions if future conditions warrant such actions.

EPA will accept comments on the proposal to delete this Site for thirty (30) days after publication of this document in the Federal Register. Section II of this document explains the criteria for deleting sites from the NPL. Section III discusses procedures that EPA is using for this action. Section IV discusses the Crown Vantage Landfill Superfund Site and demonstrates how it meets the deletion criteria.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other persons have implemented all appropriate response actions required;

ii. All appropriate Fund-financed response under CERCLA has been implemented, and no further response action by responsible parties is appropriate; or

iii. The remedial investigation has shown that the release poses no significant threat to public health or the environment and, therefore, the taking of remedial measures is not appropriate.

Pursuant to CERCLA section 121(c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to deletion of the Site:

(1) EPA consulted with the State before developing this Notice of Intent to Delete;

(2) EPA has provided the State 30 working days for review of this notice prior to publication of it today;

(3) In accordance with the criteria discussed above, EPA has determined that no further response is appropriate;

(4) The State of New Jersey, through the New Jersey Department of Environmental Protection (NJDEP), has concurred with deletion of the Site from the NPL;

(5) Concurrently with the publication of this Notice of Intent to Delete in the Federal Register, a notice is being published in a major local newspaper, the Hunterdon County Democrat. The newspaper notice announces the 30-day public comment period concerning the Notice of Intent to Delete the Site from the NPL.

(6) EPA placed copies of documents supporting the proposed deletion in the deletion docket and made these items available for public inspection and copying at the Site information repositories identified above.

If comments are received within the 30-day public comment period on this document, EPA will evaluate and respond appropriately to the comments before making a final decision to delete. If necessary, EPA will prepare a Responsiveness Summary to address any significant public comments received. After the public comment period, if EPA determines it is still appropriate to delete the Site, the Regional Administrator will publish a final Notice of Deletion in the Federal Register. Public notices, public submissions and copies of the Responsiveness Summary, if prepared, will be made available to interested parties and in the Site information repositories listed above.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following summary provides EPA's rationale for deleting the Site from the NPL:

Site Background and History

The Crown Vantage Landfill Site is an inactive former landfill located at 500 Milford-Frenchtown Road in Alexandria Township, New Jersey. The Site occupies about 10 acres and has approximately 1,500 feet of frontage on the eastern bank of the Delaware River. A mix of young and mature hardwood trees, shrubs and grasses covers the Site. Access to the landfill area is restricted by locked chain-link fencing.

To the west of the site, across the Delaware River, lies Bucks County, Pennsylvania. The Delaware and Raritan Canal foot path and a farm field bound the Site to the east. Historically, railroad tracks bounded the Site to the east. The landfill property is bounded to the south by the Delaware Raritan Canal State Park and to the north by the Curtis Specialty Papers Superfund site.

The landfill reportedly was utilized by the nearby former Curtis Specialty Papers mill, as well as by other nearby Riegel Paper Company facilities, for the disposal of waste beginning in the late 1930s through the early 1970s. The landfill may also have accepted flood-damaged items from the local community following record flooding of the Delaware River in 1955. Types of wastes disposed of at the landfill include fly ash, cinders, and bottom ash; paper mill and coating-related wastes, including foil-backed paper, off-specification paper, 55-gallon drums containing press room wastes, and paper fiber sludge from wastewater treatment plant operations; steel and fiber barrels and pallets; and construction and demolition debris. Historical aerial photos indicated that shallow trenches in the surface of the landfill may have been used for the burial of drummed wastes in the early 1970s.

Site characterization began in 1991 with the Preliminary Site Investigation (PSI), including an aerial photograph analysis, geophysical survey of the landfill area, soil gas sampling, ground water sampling and a wetlands assessment. The PSI was followed by the removal of drums (empty, full, and partially full) and paper products from the surface of the landfill. In 1994, monitoring wells were installed and the ground water quality was characterized.

From 2001 through 2003, the NJDEP fenced the Site, removed additional surface debris, including drums, and collected surface soil samples. The EPA conducted additional sampling of surface water, sediment, surface soil and fly ash, and ground water in 2003 and 2004. Additional wastes were removed from the surface and riprap was placed in flood-impacted areas.

The Site was proposed to the National Priorities List (NPL) in September 2004 (69 FR 56970) and listed on the NPL in April 2005 (70 FR 21644). The EPA CERCLIS ID# is NJN000204492.

In May 2005, Fort James Operating Company, a subsidiary of Georgia-Pacific, entered into an Administrative Order on Consent (AOC) with EPA for a Removal Action. Under the 2005 AOC, additional surficial drums were removed, additional fencing was provided, and an engineered slope stabilization wall was constructed to stabilize the landfill's western face. In total, over 700 surficial drums, drum remnants and drum carcasses were removed from the surface of the Site during investigations conducted between 1991 and 2007.

Further investigations and removal actions at the Site were performed by Georgia-Pacific Consumer Products, LP (GP) under an Administrative Agreement and Order on Consent signed in September 2007 and by International Paper Company (IP) under a Unilateral Administrative Order signed in December 2007. During the Remedial Investigation (RI) conducted in 2008-2009, more than 1,750 drums, drum carcasses and drum remnants were removed from the Site. Analytical data from surface water, pore water and groundwater sampling showed that these media were not impacted by the Site. The RI Report was completed in July 2010. The RI concluded that, after removal activities were conducted, all human health risks were within or below EPA's acceptable levels. An ecological risk assessment was also conducted and concluded that there was no need for remediation based on potential risks to ecological receptors. The Feasibility Study Report, developed to identify and compare cleanup alternatives, was completed in November 2010.

Selected Remedy

The Site remedy was selected and memorialized in the Site Record of Decision (ROD), which was issued on September 29, 2011. Because the baseline human health risk assessment and ecological risk assessments for the Site did not identify the presence of unacceptable human health or ecological risks requiring remediation under current and reasonably anticipated future Site use, the remedial action objectives were limited to preventing exposures to landfill materials. The major components of the selected remedy of the ROD are the following:

• Establishment of a deed restriction to ensure that future Site uses do not result in the disturbance of the surface of the Site, thereby preventing future residential or commercial/industrial development of the Site;

• Continued maintenance of security measures at the Site (e.g., signage and fencing);

• Continued maintenance of the slope stabilization wall;

• Sealing of remaining shallow monitoring wells;

• Semi-annual monitoring of the Site, including the slope stabilization wall; and

• Five-Year Reviews by EPA to ensure that the remedy continues to be protective of public health and the environment.

Response Actions

A Consent Decree for IP's and GP's performance of the Remedial Design and Remedial Action was entered by the United States District Court for the District of New Jersey in April 2013.

The remedy was designed and constructed in a single phase pursuant to EPA-approved work plans. The monitoring well closures and fence relocation measures undertaken as part of maintaining the existing security as required by the ROD were conducted from February to April 2013. Three monitoring wells and two piezometers were located in the field and sealed in accordance with New Jersey well closure regulations. Another three monitoring wells and four piezometers were documented to have been closed in 2007. Lastly, two monitoring wells could not be located visually or with the use of a metal detector and may have been closed in 2007 or covered by silt and other materials since they were last sampled in 1994, and four piezometers located beneath the slope stabilization wall also could not be located and are presumed to no longer be accessible. New 12-foot fence posts were driven to a depth of four feet. Monitoring of ambient air was conducted during fence installation, with no measurable concentrations of volatile organic compounds detected above background levels. Old posts and fencing were removed and recycled, and a new section of fencing and fabric installed. New coated, rust-free aluminum signs were posted along the entire fence perimeter as needed. EPA conducted a final inspection in July 2013 and issued a Preliminary Site Close-Out Report in September 2013.

IP and GP prepared a draft deed notice pursuant to the April 2013 Consent Decree. EPA approved the final deed notice in December 2013. The deed notice was recorded by the Hunterdon County Clerk in February 2014.

EPA issued a Final Site Close-Out Report in December 2014.

Ongoing Maintenance

The ongoing maintenance plan was approved in June 2013. This plan covers site security, the long-term monitoring and maintenance of the slope stabilization wall and recertification of the deed notice.

Five-Year Review

Hazardous substances, pollutants, or contaminants will remain at the Site above levels that allow for unlimited use and unrestricted exposure. Therefore, pursuant to CERCLA Section 121(c), EPA is required to conduct a review of the remedy at least once every five years. The first Five-Year Review Report will be completed prior to February 2018, which is five years from the start of the on-site remedial action construction.

Community Involvement

Public participation activities for the Site have been satisfied as required by CERCLA sections 113(k) and 117, 42 U.S.C. 9613(k) and 9617. A Community Advisory Group (CAG) for the Site has been meeting quarterly since 2009. EPA finalized a site-specific Community Involvement Plan in March 2010. The CAG obtains information from EPA and provides community input on the site progress, including the implementation of field activities associated with investigations, removals and remedial construction. EPA maintains a local site information repository at the Milford Public Library and regularly adds site reports and other documents.

As part of the remedy selection process, the public was invited to comment on the proposed remedy. In June 2011, EPA released a Proposed Plan summarizing the RI/FS reports and identifying the preferred remedial alternative with the rationale for its preference. EPA held a public meeting on July 12, 2011 at the Milford Firehouse to explain the Proposed Plan and to receive public comments. EPA held a public comment period from July 1 through 31, 2011 to accept written comments. Responses to comments received at the public meeting and comments submitted during the public comment period are provided in the Responsiveness Summary section of the ROD.

All other documents and information the EPA relied on or considered in recommending this deletion are available for the public to review at the information repositories identified above.

Determination That the Site Meets the Criteria for Deletion From the NCP

All of the completion requirements for the Site have been met, as described in the December 29, 2014 Final Site Close-Out Report. The State of New Jersey, in January 12, 2015 letter, concurred with the proposed deletion of the Site from the NPL. As described in this Notice of Intent to Delete, the implemented remedy achieves the degree of cleanup specified in the ROD for all exposure pathways; the RAO has been met, and no further Superfund response is needed to protect human health and the environment.

The NCP specifies that EPA may delete a site from the NPL if responsible parties or other persons have implemented all appropriate response actions. EPA, with the concurrence of the State of New Jersey, believes that this criterion for deletion has been met. Consequently, EPA intends to delete the Crown Vantage Landfill Site from the NPL. Documents supporting this action are available for review at the information repositories identified above.

List of Subjects in 40 CFR Part 300

Environmental protection, Air pollution control, Chemicals, Hazardous substances, Hazardous waste, Intergovernmental relations, Penalties, Reporting and recordkeeping requirements, Superfund, Water pollution control, Water supply.

Authority: 33 U.S.C. 1321(c)(2); 42 U.S.C. 9601-9657; E.O. 13626, 77 FR 56749, 3 CFR, 2013 Comp., p.306; E.O. 12777, 56 FR 54757, 3 CFR, 1991 Comp., p.351; E.O. 12580, 52 FR 2923, 3 CFR, 1987 Comp., p.193. Dated: April 15, 2015.

Judith Enck,
Regional Administrator, Region 2.

[FR Doc. 2015-10001 Filed 4-28-15; 8:45 am]

BILLING CODE P